DEPARTMENT OF HEALTH AND HUMAN SERVICES

Centers for Disease Control and Prevention

Comprehensive STD Prevention Systems, Prevention of STD-Related Infertility, and Syphilis Elimination

Announcement Type: Competing Continuation.

Funding Opportunity Number: 05004.

Catalog of Federal Domestic Assistance Number: 93.977.

Key Dates:

Application Deadline: September 15, 2004.

I. Funding Opportunity Description

Authority: This program is authorized under Section 318 (a) (b) (c) of the Public Health Service Act [42 U.S.C. Section 247c (a)(b)and(c)], as amended. Regulations governing the implementation of this legislation are covered under 42 CFR Part 51b, Subparts A and D.

Purpose: The purpose of the program is to support sexually transmitted disease (STD) programs in designing, implementing, and evaluating Comprehensive STD Prevention Systems (CSPS), including, where applicable, initiatives and strategies specific to (1) the Infertility Prevention Program (IPP) to prevent STD-related infertility; (2) the Syphilis Elimination Program (SE) to eliminate syphilis in High Morbidity Areas; and (3) the Gonoccocal Isolate Surveillance Project (GISP) to monitor gonoccocal resistance to multiple antibiotics. As an optional activity some programs may choose to participate in the Quality Evaluation Initiative (QEI) to evaluate one program activity. This program announcement addresses the “Healthy People 2010” focus area of Sexually Transmitted Disease which is aimed at addressing health disparities (Areas of Special Emphasis) among racial and ethnic minority populations at greater risk for STDs due to health disparities, high risk sexual behaviors, the settings in which they are found, or because they are at risk for or have acquired other diseases. These Areas of Special Emphasis represent high priority prevention opportunities and have direct relevance to multiple essential functions. The Areas of Special Emphasis identified by each grantee will depend on disease and behavioral surveillance (e.g., case reports, prevalence monitoring, behavioral assessments) and other locally determined data and criteria. While all gender, age, racial, cultural, and economic groups are potentially affected by STDS, some population groups are disproportionately affected by STDs and their complications. As noted in Healthy People 2010, these population groups include African Americans, Hispanics, American Indian/Alaskan Natives, Asian and Pacific Islanders, women, and adolescents and young adults. Groups considered at risk because of high risk sexual behaviors include men who have sex with men and persons with multiple sex partners. Additionally, high priority prevention opportunities may exist for groups that can be accessed in certain settings. These settings include, but are not limited to, correctional facilities, HIV prevention and care clinics, substance abuse centers or private medical care facilities. Finally, opportunities exist for STD programs to collaborate and integrate with HIV and hepatitis prevention programs to better serve groups that are at risk for or are infected with all of these diseases. Examples of collaborative activities include, but are not limited to, encouraging medical providers to provide HIV, hepatitis and STD screening in high prevalence settings; supporting the development and expansion of HIV counseling, testing, referral and partner services; and integrating HIV, hepatitis and STD prevention messages into health educational materials.

Development of this program response provides an opportunity to conduct short, intermediate, and long term program planning. It may serve as the one document that fully describes the goals, objectives, activities (present and future) of your comprehensive STD prevention program.

Measurable outcomes of the program will be in alignment with one (or more) of the following performance goal(s) for the National Center for HIV, STD, and TB Prevention (NCHSTP): (1) Reduce STD rates by providing chlamydia and gonorrhea screening, treatment, and partner treatment to 50 percent of women in publicly funded family planning and STD clinics nationally; (2) Reduce the incidence of primary and secondary syphilis; and (3) Reduce the incidence of congenital syphilis.

To ensure quality programs and to measure progress, grantees are required to report on a set of performance measures appropriate for specific program components. Each grantee will set its own annual target level of performance for each performance measure. In future years these measures will be refined and enhanced. Guidance on performance measures for specific definitions of measures and terms will be provided in a separate companion guidance.

Grantees will be required to specify baseline performance using data from the period January 1—June 30, 2004. In addition, grantees will be required to specify one-year and four-year goals for each performance measure. The discussion should provide a rationale for the goals that are set and describe data sources and methods of analysis used in setting the baseline performance, one-year and four-year goals. If the data sources needed to establish the baseline level are not available, the grantee should describe what steps or actions will be conducted in Year One to set the baseline level in Year Two.

Grantees are also expected to provide measurable and quantitative four-year project period goals and measurable and quantitative one-year budget period objectives when developing their program plans. These measurable goals and objectives should relate to the program priorities identified and justified in the Background, Need, and Narrative sections of the application. If the grantee determines, based on project area data, that a specific performance measure is not applicable, the grantee must provide adequate justification as to why they should not be held accountable for reporting on the measure.

Grantees are responsible for achieving the target levels of performance measures and program goals and objectives established in their grant application. If a grantee does not achieve their goals, CDC will work with the grantee to determine what steps can be taken to improve performance. CDC actions could include providing technical assistance, placing conditions or restrictions on the award of funds or, with chronic failure to improve, reducing funds.

In addition to performance measures, four-year goals and one-year objectives, grantees are also required to report program data in the same format as tables provided. These data tables are listed in two sections of this program announcement, (1) Background and Need and (2) Progress Reports. In future years of this grant cycle, the data tables will be refined and enhanced. Grantees can expect additional data reporting requirements to become part of future progress reports.

Activities for CSPS: Awardee activities for this program are as follows:

The grantee will be responsible for developing a CSPS program plan that includes the following activities:

1. Provide Community and Individual Behavior Change Interventions.

2. Provide Medical and Laboratory Services.

3. Ensure Partner Services.

4. Promote Leadership and Program Management.

5. Conduct Surveillance and Data Management.

6. Provide or ensure Training and Professional Development.

7. Ensure a documented STD Outbreak Response Plan.

8. Conduct Program Evaluation.

Activities for IPP: Awardee activities for this program are as follows: The grantee will be responsible for developing an IPP program plan that includes the following activities:

1. Ensure clinical services including chlamydia and gonorrhea screening and treatment of young, sexually active women and their sex partners.

2. Support laboratory testing.

3. Develop surveillance and data management systems to ensure collection of all CDC core data elements.

4. Provide program management and leadership.

5. Ensure provider training.

Activities for SE: Awardee activities for this program are as follows: The grantee will be responsible for developing a SE program plan that includes the following activities:

1. Enhance surveillance.

2. Strengthen community involvement and partnerships.

3. Provide rapid outbreak response.

4. Expand clinical and laboratory services.

5. Enhance health promotion.

Activities for GISP:

1. Collect, handle, and ship specimens.

2. Report demographic and clinical data.

Activities for QEI (Optional): In addition to the required evaluation activities some grantees may opt to participate in the Quality Evaluation Initiative by conducting the following activities:

1. Evaluate one program intervention.

2. Report the outcome of the evaluation.

II. Award Information

Type of Award: Grant.

Fiscal Year Funds: 2005.

Approximate Total Funding: $103,000,000.

Federal funds are intended to supplement (not replace or supplant) current state and local resources and must be used to assist state and local programs in conducting high-priority activities as described in their CSPS, IPP and SE plans.

CSPS: Approximately $57,000,000 is available (based on FY2004 financial assistance base-level awards) in FY 2005 to fund 65 awards. Included within CSPS is the optional activity, Quality Evaluation Initiative (QEI), for which no additional funding is available at this time. The average base-level award for CSPS is expected to be $877,000, ranging from $24,000 to $5,105,000. Funding estimates may change.

IPP: Approximately $28,000,000 (based on FY 2004 financial assistance base level awards) is available in FY 2005 to fund 65 awards. Awards will range from $10,700 to $1,910,000.

SE: Approximately $18,000,000 is available in FY 2005 to supplement up to 38 CSPS Project Grants to design, implement, and evaluate intervention strategies for syphilis elimination in High Morbidity Areas (HMA). It is expected that awards will range from $135,000 to $1,900,000.

GISP: Approximately $460,000 is available in FY 2005. Awards will range from $3,000 to $92,000.

Approximate Number of Awards:

CSPS: 65

IPP: 65

SE: 38

GISP: 28-35

Approximate Average Award:

CSPS: $877,000

IPP: $431,000

SE: $474,000

GISP: $19,000

Floor of Award Range:

CSPS: $24,000

IPP: $10,700

SE: $135,000

GISP: $3,000

Ceiling of Award Range:

CSPS: $5,105,000

IPP: $1,910,000

SE: $1,900,000

GISP: $92,000

Anticipated Award Date: January 1, 2005.

Budget Period Length: 12 months.

Project Period Length: 4 years.

Throughout the project period, CDC's commitment to continuation of awards will be conditioned on the availability of funds, evidence of satisfactory progress by the recipient (as documented in required reports), and the determination that continued funding is in the best interest of the Federal Government.

III. Eligibility Information

III.1. Eligible Applicants

CDC is specifically authorized to make grants to state and political subdivisions of states for research and demonstration projects for STD prevention and control; STD screening, treatment, and case finding; public information and education programs for STD prevention; and education, training, and clinical skills improvement for the prevention and control of STDs.

CSPS: Eligible applicants for the CSPS funds are the 65 official public health agencies that are current recipients of project grants for Preventive Health Services-Sexually Transmitted Disease Control Grants. These applicants have the necessary infrastructure in place to perform the activities required and have the experience needed to successfully complete the required functions.

IPP: Eligible applicants for the IPP funds are the 65 official public health agencies that are current recipients of project grants for Preventive Health Services—Sexually Transmitted Disease Control Grants. These applicants have the necessary infrastructure in place to perform the activities required and have the experience needed to successfully complete the required functions.

SE: Project areas eligible for Syphilis Elimination funding are stratified in three different tiers: (1) Those with greater than 100 cases of Primary and Secondary (P and S) syphilis in 2003; (2) those with greater than 35 cases of P and S and a Male to Female case ratio greater than or equal to 2.5 in 2003; (3) those project areas previously funded for syphilis elimination who have not reached stable reductions of P and S syphilis for the years 2000-2003.

Project areas with greater than 100 cases of P and S syphilis are: Alabama, Arizona, Baltimore, Chicago, California, Florida, Georgia, Illinois, Los Angeles, Louisiana, Maryland, Massachusetts, Michigan, New Jersey, New York City, North Carolina, Ohio, Puerto Rico, San Francisco, Tennessee, Texas.

Project areas with greater than 35 cases of P and S Syphilis and a Male to Female case ratio greater than or equal to 2.5: District of Columbia, Minnesota, Virginia, Washington, Philadelphia, Pennsylvania, New York State, Oregon.

Those project areas previously funded for syphilis elimination activities 1999-2004 who have not reached stable reductions in P and S syphilis for three years 2001-2003 are: Arkansas, Connecticut, Indiana, Kentucky, Missouri, Mississippi, Oklahoma, South Carolina, Wisconsin.

GISP: Current participants include Alabama, Arizona, California, Colorado, Florida, Georgia, Hawaii, Illinois, Louisiana, Minnesota, Missouri, Nevada, New Mexico, North Carolina, Ohio, Oregon, Texas, Washington, Baltimore, Philadelphia, San Francisco, Los Angeles, Oklahoma, and Michigan. These applicants have the necessary infrastructure in place to perform the activities required and have the experience needed to successfully complete the required functions. Additional eligible sites may be added as funds become available.

A Bona Fide Agent is an agency/organization identified by the state as eligible to submit an application under the state eligibility in lieu of a state application. If you are applying as a bona fide agent of a state or local government, you must provide a letter from the state or local government as documentation behind the first page of your application form.

III.2. Cost Sharing or Matching

Matching funds are not required for this program.

III.3. Other

If you request a funding amount greater than the ceiling of the award range, your application will be considered non-responsive and will not be entered into the review process. You will be notified that your application did not meet the submission requirements.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1. Application forms, instructions, and appendices are available on the CDC Web site, at the following Internet address: www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Application Submission

The program announcement is the definitive guide on application format, content, and deadlines. It supersedes information provided in the application instructions. If there are discrepancies between the application form instructions and the program announcement, adhere to the guidance in the program announcement.

You must submit a signed original and two copies of your application forms.

Application: You must include a project narrative with your application forms. Your narrative must be submitted in the following format:

• Maximum number of pages: CSPS is 40, IPP is 20, SE is 20, QEI is five; and GISP is five. If your narrative exceeds the page limit, only the first pages which are within the page limit will be reviewed.

• Font size: 12 point unreduced.

• Paper size: 8.5 by 11 inches.

• Page margin size: One inch.

• Printed only on one side of page.

• Held together only by metal clips; not bound in any other way.

• Number all pages.

• Single spaced.

• Include a complete index with page numbers to all parts of the application and its appendices.

Your narrative should address activities to be conducted during the entire project period, and must include the following:

1. Specific one-year interim targets and four-year overall goals.

2. The discussion should provide a rationale for the targets and a description of how each relates to Healthy People 2010 Objectives. (Reference- http://www.healthypeople.gov/document/html/volume2/25stds.htm)

The goals should reflect the vision, priorities and direction of the grantee's STD program during the next four-year project period. These goals should be supported by background and need descriptions and be consistent with the goals of the Division of STD Prevention.

The narrative must include the following items in the order listed:

1. Executive Summary

Your executive summary should include a clear and succinct description of your program including, but not limited to, funding you are applying for (CSPS, IPP, SE, and GISP), program's mission and purpose, program structure, significant morbidity and other trends, goals of the program for which funding is requested, and key activities to meet these goals. Those applicants choosing to participate in the QEI initiative should also address this initiative in the executive summary.

2. Background and Need for CSPS, IPP, and SE

This section should describe the grantee's total STD program (not just the portion which is federally funded), STD prevention needs, and provide a sound platform for proposed CSPS, IPP, and SE funded activities. The grantee must include the following:

a. An overview and update of chlamydia, gonorrhea and syphilis morbidity and prevalence (where appropriate) trends by relevant characteristics (e.g., gender, age, race/ethnicity, geography) for the past five years. Provide current syphilis reactor grid indicating date of last assessment and modification. Additionally, complete the following four tables separately for each of these time periods: calendar year 2003 and the first six months of 2004.

Table 1.—Chlamydia
Provider type | Number of Chlamydia tests (List as many as appropriate): Females | Number of Chlamydia tests (List as many as appropriate): Males | Number of positive tests (List as many as appropriate): Females | Number of positive tests (List as many as appropriate): Males | Test used | Screening criteria
FP
STD
Prenatal

Table 2.—Gonorrhea
Provider type | Number of Gonorrhea tests (List as many as appropriate): Females | Number of Gonorrhea tests (List as many as appropriate): Males | Number of positive tests (List as many as appropriate): Females | Number of positive tests (List as many as appropriate): Males | Test used | Screening criteria
FP
STD
Prenatal

Table 3.—Male Primary and Secondary Syphilis Cases
Number of cases | Cases with partner information* | Information about index case: Total number of HIV+ | Information about index case: Total number of HIV− | Information about index case: Total number of HIV status unknown | Information about index case: HIV + & MSM** | Information about index case: HIV − & MSM | Information about index case: HIV Status unknown & MSM
*Partner information is defined as partner information gathered during an interview and/or information gathered from a provider even if the case is not interviewed.
**MSM refers to men who have sex with men.

Table 4.—Female Primary and Secondary Syphilis Cases
Number of Cases | Cases with Partner Information* | Information about Index Case: Total number of HIV+ | Information about Index Case: Total number of HIV− | Information about Index Case: Total number of HIV status unknown
* Partner information is defined as partner information gathered during an interview and/or information gathered from a provider even if the case is not interviewed.

b. Discussion of significant behavioral trends of groups affected by STDs (e.g., sexual risk, substance abuse, and health care seeking); health services delivery trends (e.g., number of clinics, patients seen, relationships with private providers) and program management (e.g., organizational structure, funding, federal and local staffing, resource limitations) trends over the past five years. Include any other relevant information or trends that may be major factors affecting STD morbidity within your project area.

c. Discussion of community involvement and organizational partnerships in planning, implementation and evaluation of program activities including successes, obstacles, and barriers. Also describe collaboration with other governmental and non-governmental entities (e.g., regional infertility prevention projects, school-based clinics, correctional centers, community planning groups, Indian Health Services, tribes, faith-based organizations, STD/HIV Prevention Training Centers, AIDS Education and Training Centers).

d. Discussion of Areas of Special Emphasis: Grantees are expected to identify the Areas of Special Emphasis to be addressed through program activities and provide a rationale for the selections. The grantee must include morbidity, behavioral, or other data/information to support the rationale. Examples of information to include are: (1) Case rates or prevalence monitoring data; (2) data indicating the demographic characteristics of the groups to be reached; (3) behavioral or other risk data; or (4) documentation of existing project area activities related to the Areas of Special Emphasis chosen.

e. Statement of grantee's one year interim target and four-year overall project period goals for each target. Provide a rationale for the targets and a description of how each relates to Healthy People 2010 Objectives. (Reference: http://www.healthypeople.gov/document/html/volume2/25stds.htm)

3. CSPS Essential Functions

Following are instructions to complete this section:

I. Narrative: Describe and discuss the status of each essential function as specified under each function. As appropriate, include information about how the Areas of Special Emphasis identified in the background section are being addressed.

II. Objectives: List the budget period (one year) program objectives for each essential function. They should be consistent with grantee's program priorities as related to each function. Assure that each objective is specific, measurable, achievable and ambitious, relevant, and time bound (SMART). The suggested number of objectives for each essential function is one to three.

III. Activities: Describe the activities that will be conducted to achieve the objectives for the next budget period. Include in this section any training of program staff or external partners necessary to conduct the activities and achieve the objectives.

IV. Monitoring Plan: A plan should be developed that will monitor the activities and progress made toward meeting the objectives developed for each essential function. The plan should answer the following questions:

1. What is being done? (e.g., strategy, intervention,activity)

2. By whom? (e.g., staffing)

3. For whom? (e.g., target population)

4. How? (e.g., where, when, how often, how much)

5. For what specific benefit(s)? (e.g., what are the expected results or outcomes?)

6. What resources are being used? (e.g., staff, materials, money etc.)

Essential Functions

Community and Individual Behavior Change Interventions. Community Behavior Change is defined as an intervention conducted for more than one person at any given time while Individual Behavior Change is defined as an intervention conducted one-on-one. Information on STD prevention interventions (or strategies) can include abstinence, monogamy, i.e., being faithful to a single sexual partner, or using condoms consistently and correctly. These approaches can avoid risk (abstinence) or effectively reduce risk for STD (monogamy, consistent and correct condom use).

The components of this essential function are:

1. Describe how the program implements strategies to target individuals, groups or whole communities to build awareness and stimulate individual behavior change.

2. Describe how the program develops networks with experts in the fields of communication, behavioral and social science, social marketing and advertising to further promote STD prevention messages.

Medical and Laboratory Services. Medical Services are defined as clinical/diagnostic STD services provided by private and public health care providers. Laboratory Services are defined as STD testing performed at licensed facilities. The components are:

1. Describe collaboration with non-governmental entities, Community-based organizations (CBOs), providers, etc., whose clients are at risk for STDs to expand access to care.

2. Describe how the program assures that the clinical services and standards of care in those settings providing STD services are of high quality and consistent with CDC's guidelines and recommendations.

3. Describe screening and counseling of persons at risk for STDs in settings where STD services are provided. Screening criteria should be based on local morbidity.

4. Describe how the program assures the availability of on-site, “stat” (immediate) STD laboratory tests (Clinical Laboratory Improvement Amendments [CLIA] adherence required) in laboratories in public STD clinic settings.

5. Describe how the program assures that all laboratories adhere to reporting requirements including the transmission of quality, complete data in a timely manner to providers and the health department.

There is one performance measure for this essential function. Specify baseline performance, one-year, and four-year goals for the following measure:

Proportion of female admittees to large juvenile detention facilities tested for chlamydia. (See appendix five for list of proposed large county detention facilities by project area that project areas may use in responding to this measure.)

The following information regarding the baseline indicator should be provided:

1. Describe how the baseline was developed.

2. Describe what data sources were used in setting the baseline.

3. Describe how the data were analyzed to develop this baseline.

4. Describe how the one-year and four-year goals were developed.

5. If the data sources needed to establish the baseline level are not available, describe what steps/actions will be conducted in Year One to set the baseline level in Year Two.

Partner Services. Partner Services are those activities offered to individuals infected with STDs, their sex partners, and other persons who are at increased risk for infection in an effort to prevent further transmission of disease. The components are:

1. Describe confidential notification, appropriate medical attention, and needed referrals for sex partners and other high risk individuals.

2. Describe risk reduction plans to reduce likelihood of acquiring future STD/HIV.

3. Describe identification of communities at risk by analyzing information gathered from interviews conducted with patients, partners, and others at risk for STD and HIV.

4. Describe integration or coordination of STD and HIV partner services.

There are five performance measures for this essential function. Specify baseline performance, and one-year and four-year goals, for the following five measures:

1. Proportion of primary and secondary syphilis cases interviewed within 7, 14, and 30 calendar days from the date of specimen collection.

2. Number of contacts prophylactically treated or newly diagnosed and treated within 7, 14 and 30 calendar days from day of interview of index case, per case of P and S syphilis.

3. Number of “associates” or “suspects” tested, per case of P and S syphilis.

4. Number of “associates” or “suspects” treated for newly diagnosed syphilis, per case of P and S syphilis.

Project areas receiving syphilis elimination funding are not required to report on the following performance measure. For all other project areas, when providing required information for this measure, describe how the data was analyzed to identify the chosen priority population(s).

5. Proportion of priority gonorrhea cases interviewed within 7, 14 and 30 days from the date of specimen collection. Priority population(s) is to be locally determined (e.g., pregnant women, women aged 15-19 years, women of child-bearing age, resistant gonorrhea, MSM, etc.)

The following information regarding each baseline performance should be provided:

1. Describe how the baseline was developed.

2. Describe what data sources were used in setting the baseline.

3. Describe how the data were analyzed to develop this baseline.

4. Describe how the one-year and four-year goals were developed.

5. If the data sources needed to establish the baseline level are not available, describe what steps/actions will be conducted in Year One to set the baseline level in Year Two.

Leadership and Program Management. Leadership is defined as providing the vision and context in which management activities are implemented. It provides a clear sense of purpose and direction. Program Management is defined as overseeing the implementation of elements created by leadership. Components of this essential function are:

1. Describe program vision to set the context in which activities can be implemented.

2. Describe implementation of the elements created by leadership which include assessment, assurance, and policy development.

3. Describe dissemination and implementation of national and local guidelines and the delivery of high quality STD prevention and clinical services.

4. Describe the development of sound policy that promotes STD prevention program goals through solid strategic and operational planning.

5. Describe the involvement of affected communities and other relevant partners in strategic and operational planning.

Surveillance and Data Management. Surveillance is defined as the ongoing and systematic collection, analysis, interpretation, and dissemination of health data for the purpose of describing and monitoring disease trends. Data management is defined as the process of collection, analysis, storage, retrieval, and distribution of data. The components of this essential function are:

1. Describe the improvement and maintenance of timely and active data and information systems for monitoring STD incidence and prevalence, especially in high risk populations and geographic areas.

2. Describe your system to detect changing patterns, identify populations at risk, and provide surveillance data and feedback to program managers, community health providers, HIV community planning groups, policy makers, family planning partners, correctional facilities, Managed Care Organizations, and the lay public.

There are two performance measures for this essential function. Baseline performance for these measures will be provided by CDC. Specify one-year and four-year goals for the following two measures.

1. Proportion of reported cases of gonorrhea, chlamydia, P and S syphilis, early latent (EL) syphilis, and congenital syphilis sent to CDC via the National Electronic Telecommunications System for Surveillance (NETSS) that have complete data for age, race, sex, county, and date of specimen collection.

2. Proportion of reported cases of gonorrhea, chlamydia, P and S syphilis, EL syphilis, and congenital syphilis sent to CDC via NETSS within 30 and 60 days from the date of specimen collection.

The following information regarding each baseline indicator should be provided:

1. Describe how the one-year and four-year goals were developed.

Training and Professional Development. Training is defined as a set of activities designed to develop specific skills of workers who are required to perform public health prevention functions or tasks. The training process includes assessment of staff proficiency and identification of training needs; delivery of training to address skill and knowledge deficiencies; and evaluation of the effectiveness of the training on performance. Professional development is a strategy to develop the necessary professional expertise within the targeted workforce. It is a broader level of commitment to worker development and might include participation in informational seminars and in-service workshops, formal academic education, and experiential activities which aid in the growth of workers' professional expertise. Components of this essential function are:

1. Describe the programs on-going systematic assessment of the training needs of staff and external partners.

2. Describe how the program identifies ongoing training resources.

3. Describe opportunities for professional development for staff members.

4. Describe training for the professional development of external partners including staff and physicians of private medical settings.

STD Outbreak Response Plan (not included in page limitation). All grantees must include an updated STD Outbreak Response Plan as an attachment. The plan should include standards for surveillance and procedures for analysis of data; a timetable and schedule for review of disease trends; the disease thresholds, for gonorrhea and syphilis at a minimum, at which the plan is to be initiated; the meaningful involvement of the affected community in the effort; staffing considerations, including number, disciplinary mix, and specific responsibilities of members of response teams; the notification to CDC; the evaluation of the effectiveness of the response; and a schedule for the periodic review of both the outbreak plan and the surveillance system attributes.

4. Quality Evaluation Initiative

The Quality Initiative, a new component, is intended to assist grantees in building local evaluation capacity by improving knowledge and skill in the area of program evaluation as practically applied to the CSPS. Self-selected grantees are given the opportunity to develop plans to conduct an in-depth, science-based evaluation. It is an opportunity for a grantee to closely examine a program intervention to determine its strengths and weaknesses, its benefits, and its future direction. In addition, grantees will be provided technical assistance by the Division to assist in the development, implementation, and execution of this initiative. During the project period, the grantee will have an opportunity to closely examine a program intervention to determine its strengths and weaknesses, its benefits, and its future direction.

To express interest in pursuing this quality evaluation initiative the grantee should address the following items in their application.

a. Describe any current program evaluation and quality improvement activities the program has or is currently conducting.

b. Select and briefly describe the rationale for selection of ONE program intervention to be evaluated.

c. List the most important questions to be answered (what does the grantee want to learn about the intervention).

d. Describe what technical assistance your project would need to conduct an evaluation.

5. Infertility Prevention Plan

A comprehensive program plan for infertility prevention should be developed based on access to populations at risk, prevalence of disease, and available resources (federal, state, local, and private). Project areas are expected to develop a program plan that uses the most cost-effective approaches available and provide a rationale for the approach selected. To improve cost-effectiveness, programs are encouraged to expand screening to adolescent women in settings with a female prevalence of chlamydia greater than two percent (family planning clinics, STD clinics, adolescent health clinics, Indian Health Service sites, community health centers, school-based health centers, and juvenile detention centers) before screening males. In general, screening men is not cost-effective unless the prevalence in the men screened is substantially higher than the prevalence in women who can be screened (such as seven percent in men vs two percent in women).

Project area IPP program plans must be developed in collaboration with family planning (FP) and laboratory partners. The application must include a recently dated letter that provides evidence of collaboration and indicates the percentage (at least 50 percent) of IPP funds that will support screening and treatment of women and their sex partners in Title X family planning settings. If the funds are less than 50 percent, justification must be provided in the letter. The STD and the designated Title X family planning representative must jointly sign the letter.

The project area must provide the Regional IPP Coordinator a draft copy of the CSPS Background section, IPP plan, and IPP budget in sufficient time to provide feedback prior to local clearance. Any comments from the Regional IPP Coordinator received seven days before submission to local clearance should be considered by the project area for incorporation in the application.

The following are instructions to complete this section.

I. Narrative: Describe and discuss the status of each IPP core component. As appropriate, include information about how the Areas of Special Emphasis identified in the background section are being addressed.

II. Objectives: List the budget period (one year) program objectives for each IPP core component. The objectives should be consistent with and address relevant priority areas as outlined in the 2003 Regional IPP Plan Guidance. Assure that each objective is SMART. The suggested number of objectives for each core component is one to three.

III. Activities: Describe the required activities to achieve the objectives related to the five IPP core components for the next budget period (one year). Report on all relevant activities regardless of funding source. Activities supported with IPP funds should be clearly identified and reported separately. Progress reports should be shared with members of the regional advisory committee to keep them abreast of program successes and shortfalls.

IV. Monitoring Plan: A plan should be developed that will monitor the activities and progress made toward meeting the objectives developed for each IPP core component. The plan should answer the following questions:

1. What is being done? (e.g., strategy, intervention, activity)

2. By whom? (e.g., staffing)

3. For whom? (e.g., target population)

4. How? (e.g., where, when, how often, how much)

5. For what benefit? (e.g., what are the expected results or outcomes?)

6. What resources are being used? (e.g., staff, materials, money, etc.)

IPP Core Components: Include a description of each of the five IPP core components within your narrative.

Clinical Services

• Describe how the program is targeting/expanding chlamydia screening to young sexually active women and men at risk for infection in family planning, STD and other settings including, but not limited to, Indian Health Service sites, migrant and community health centers, adolescent clinics, school-based facilities, and juvenile detention centers.

• Describe counseling and education strategies to prevent and control chlamydia and gonorrhea including (a) the importance of partner referral and treatment, (b) the impact of untreated chlamydia and repeat chlamydial infections on future fertility and (c) information on STD prevention methods (or strategies) such as abstinence, monogamy, i.e., being faithful to a single sexual partner, or using condoms consistently and correctly.

• Describe monitoring of treatment success.

• Describe monitoring of partner testing and treatment.

• Describe monitoring of regional screening guidelines, protocols, and other quality assurance activities.

Expanded Clinical Services: (If funding allows, describe one or more of the components below.)

• Describe how chlamydia screening among private sector providers is promoted.

• Describe monitoring of screening coverage in family planning and STD clinics (i.e., the number of eligible women screened divided by the number of eligible women being seen at a site).

• Describe screening women for gonorrhea (see budget section for funding restrictions). To use IPP funds for this purpose, the grantee must describe gonorrhea positivity data of one percent or greater at the provider sites where services are to be supported. Pending further guidance from CDC, a site-specific or age-specific gonorrhea prevalence should equal or exceed one percent. Other supporting prevalence monitoring data should be included for each population or clinic site that can substantiate the need for using IPP funds.

• Describe male chlamydia screening activities (see budget section for funding restrictions). To use IPP funds for this purpose, the grantee must quantify and describe any other male screening activities conducted with other funds that are occurring in the project area; describe what type of activity will be undertaken and type of facility; and submit core IPP data elements to regional coordinator.

There are two performance measures for this IPP Core Component. Specify baseline performance, and one-year and four-year goals for the following two measures:

1. Among clients of IPP family planning clinics, the proportion of women with positive chlamydia tests that are treated within 14 and 30 days of the date of specimen collection.

2. Among clients of IPP family planning clinics, the proportion of women with positive gonorrhea tests that are treated within 14 and 30 days of the date of specimen collection.

The following information regarding baseline performance for each measure should be provided:

1. Describe how the baseline was developed.

2. Describe what data sources were used in setting the baseline.

3. Describe how the data were analyzed to develop this baseline.

4. Describe how the one-year and four-year goals were developed.

5. If the data sources needed to establish the baseline level are not available, describe what steps/actions will be conducted in Year One to set the baseline level in Year Two.

Laboratory Support

• Describe tests used for chlamydia and gonorrhea screening including criteria for confirmation testing.

• Describe quality assessment practices to monitor performance of laboratories.

• Describe how compliance to regional turnaround time standards is monitored.

• Describe how specimen adequacy is monitored.

• Describe methods to increase test sensitivity where appropriate (e.g., additional testing within negative gray zone).

• Describe methods to improve test specificity and improve positive predictive value.

Surveillance and Data Management

• Describe local information systems used to collect all elements of the regional IPP core data set.

• Describe how the project area is using data for program planning.

• Describe how adherence to regional or locally developed screening criteria is monitored.

• Describe quality assurance activities to monitor completeness and timeliness of submission of chlamydia and gonorrhea prevalence monitoring data to regional coordinators.

Expanded Surveillance and Data Management Component: (If funds are available)

• Describe local information systems used to collect enhanced IPP data elements.

Program Management and Leadership:

• Describe participation in the regional IPP advisory committee and collaboration with state family planning and public health laboratory partners.

• Describe how information about the regional project is disseminated to local areas.

• Describe how the project area adheres to regionally developed protocols (when not in conflict with local policy).

Expanded Program Management and Leadership: (If funds allow, describe the following)

• Describe strategies to optimize program resources (e.g., increasing non-federal contribution to project; improving program efficiency by increasing use of electronic reporting or reducing laboratory costs; negotiating lower test or treatment costs; expanding third party reimbursement; or other efforts to increase program resources during the reporting period).

Provider Training

If not addressed in the CSPS training section, describe training efforts that support implementation of the IPP and how training needs are assessed.

6. Syphilis Elimination (applies only to HMA applicants)

Following are the instructions to complete this section:

I. Narrative: Describe and discuss the current status of each SE strategy. As appropriate, include information about how the Areas of Special Emphasis identified in the Background section are being addressed.

II. Objectives: List the budget period program (one year) objectives for each SE strategy. The objectives should reflect your program's primary focus as it relates to each of the five strategies. Assure that the objectives are SMART. The suggested number of objectives for each SE strategy is one to three.

III. Activities: Describe the activities that will be conducted to achieve the objectives for the next budget period. Include in this section any training of program staff or external partners necessary to conduct the activities and achieve the objectives.

IV. Monitoring Plan: A plan should be developed that will monitor the activities and progress made toward meeting the objectives developed for each SE strategy. The plan should answer the following questions:

1. What is being done? (e.g., strategy, intervention, activity)

2. By whom? (e.g., staffing)

3. For whom? (e.g., target population)

4. How? (e.g., where, when, how often, how much)

5. For what specific benefit? (e.g., what are the expected results or outcomes?)

6. What resources are being used? (e.g., staff, materials, money, etc.)

Five Strategies to Eliminate Syphilis

There are five strategies listed in the National Plan to Eliminate Syphilis from the United States. HMAs must address all five strategies.

1. Enhanced Surveillance

a. Describe how you will enhance the project area surveillance system to plan, implement and evaluate syphilis elimination activities. This should include a description of how case reporting systems have been enhanced and how the systems have been used to estimate the burden of disease, define local epidemiology, monitor trends, monitor time frames for reporting consistent with those in the National Plan, identify high priority populations, identify gaps in health care and prevention intervention opportunities, design and evaluate interventions, and allocate resources.

b. Describe syphilis prevalence monitoring activities as outlined in the “Recommendations for Public Health Surveillance of Syphilis in the United States” and how these data have been used to evaluate the yield of screening programs, monitor disease burden and trends, identify priority populations, evaluate case reporting data, design interventions, and allocate resources.

There are two performance measures for this component. Specify baseline performance, and one-year and four-year goals for the following two measures:

1. Proportion of providers or partnerships delivering continuing care for >50 HIV+ individuals, who have written protocols for screening those clients for syphilis.

2. Proportion of female admittees entering selected project area adult city and county jails that were tested for syphilis. (See appendix four for the list of ten adult city and 29 selected county jails)

The following information regarding each baseline indicator should be provided:

1. Describe how the baseline was developed.

2. Describe what data sources were used in setting the baseline.

3. Describe how the data were analyzed to develop this baseline.

4. Describe how the one-year and four-year goals were developed.

5. If the data sources needed to establish the baseline level are not available, describe what steps/actions will be conducted in Year One to set the baseline level in Year Two.

2. Strengthened Community Involvement and Organizational Partnerships

a. Describe assessment activities that include members of the affected communities to determine the non-governmental, community-based, health and non-health agencies, and institutions that should be involved in the development of the syphilis elimination plan. This should include a description of how community coalitions and other partners are involved to (1) review the epidemiology of syphilis and the social and institutional context of its persistence and (2) design and implement locally relevant, enhanced syphilis prevention interventions and control services identified by community assessment activities.

b. Describe how current STD and HIV prevention activities in the project area and other relevant healthcare and non-health sector activities (e.g., HIV care providers, community health centers, faith communities, substance abuse treatment) are being integrated in the syphilis elimination plan. Describe activities to increase partnerships to improve the availability of and accessibility to quality preventive care services for high priority populations. If obstacles or barriers exist describe the situation and activities to overcome the situation.

3. Syphilis Outbreak Response Plan

In addition to addressing syphilis in the STD Outbreak Response Plan (required appendix), the grantee should provide a rationale for the area-specific syphilis threshold cited in the Plan. The grantee should also briefly describe whether their Outbreak Response Plan had been activated and evaluated for the period of time between January 2003 and June 2004. For example, How well did it work? Was it necessary to modify the plan? What were the outcomes of activating the plan and related interventions? (e.g., increased awareness, reduced incidence, what methodology was used to evaluate the activation of the plan?)

4. Expanded Clinical and Laboratory Services

a. Develop, implement, and evaluate enhanced syphilis prevention interventions and control systems. Recipients must be able to provide accessible and timely client-centered counseling, screening and treatment services in sites frequented by priority populations.

b. Working with community and institutional partners, grantees must determine which of the following essential interventions are needed to assure elimination of syphilis in their local situation. Recipients must be able to execute and evaluate the identified interventions. Interventions include: (1) Enhanced clinical and laboratory services to assure high quality, accessible biomedical services; (2) screening in priority population settings that are determined by each project area based on current data analyses and input from community partners (settings could include HIV prevention clinics, corrections, drug treatment, emergency rooms, homeless shelters, local communities, and other community appropriate settings); (3) improved partner services, including partner notification, identification and provision of services within social-sexual networks, and high quality disease investigation services linking to quality clinical and counseling services; and (4) community-based services for priority populations. Community-based services should include access to disease screening and treatment, referral for other clinical services as appropriate, outreach to priority populations, prevention education, and condom distribution.

5. Enhanced Health Promotion

a. Expand community and individual risk reduction interventions to lower the acquisition and transmission of syphilis through delivery of theory-based behavior change interventions targeting priority populations.

b. Develop systematic communication and media strategies (print, television, radio and local CBO outreach activities to assure dissemination of syphilis elimination messages.

Note: Information on syphilis prevention methods (or strategies) can include abstinence, monogamy, i.e., being faithful to a single sexual partner, or using condoms consistently and correctly. These approaches can avoid risk (abstinence) or effectively reduce risk for syphilis (monogamy, consistent and correct condom use).

7. Gonococcal Isolate Surveillance Program (Applies Only to GISP Applicants)

Provide a narrative that includes the following:

• Describe enrollment strategy. Specifically, describe how applicant intends to reach a goal of 25 isolates per month.

• Describe procedures for isolate collection, handling and shipping.

• Describe patient data applicant intends to collect and the plan for submitting data to CDC in a timely fashion.

• Where appropriate, describe procedures for determining beta-lactamase production and antimicrobial susceptibilities of GISP isolates.

• Where appropriate, discuss timeliness of isolate testing and submission of results, storage or duplicate isolates, use of control strains, proficiency testing, and timeliness of CASPIR isolate submission.

8. Budget and Budget Justifications (Not Included in Page Limit)

An individual line-item budget and budget justification must be submitted for each funding source for which your program is applying. The budget and justifications should reflect year one of operation. All requested costs should be consistent with program objectives and activities, especially those related to requests for personnel, and contracts. For all contracts, provide: (1) Name of contractor, (2) period of performance, (3) method of selection (e.g., competitive or sole source), (4) description of activities, (5) reason for contracting activities, and (6) itemized budget. For personnel requests, include the following: Name, position title, salary, percentage of effort, and amount requested. For non-federal resources: Document the resources expended (see Form 424A, Section C, Non-Federal Resources). Grantees must complete appendix number four, Table of staff percentage of time spent on HIV activities and appendix number five, Table of state and local contributions to STD prevention efforts. Funding restrictions, which must be taken into account while writing your budget, are listed in section “IV.5. Funding Restrictions” of this announcement.

Note: Any information systems development supported through this cooperative agreement should be done according to the Public Health Information Network (PHIN) architecture specifications. The creation of standards-based, interoperable public health information systems is the goal of these specifications. Two of the chief components of the PHIN initiative are affected by or affect almost any information systems development project and special attention should be paid to them. These are standard messaging (data exchange) formats and content and standard vocabulary code sets. Examples of projects heavily affected by these components are surveillance systems developed according to National Electronic Disease Surveillance System (NEDSS) standards and Laboratory Information Management System (LIMS) implementations. For more information on Public Health Information Network (PHIN), the PHIN architecture, PHIN messaging, and PHIN standards, functions, and specifications, go to http://www.cdc.gov.phin/.

Additional information must be included in the application appendices. The appendices will not be counted toward the narrative page limit. This additional information includes:

1. Curriculum Vitae of Project Director.

2. Syphilis Reactor Grid.

3. Outbreak Response Plan.

4. IPP letter of support.

5. Table 1. Percentage Direct Assistance/Financial Assistance (DA/FA) Staff Time Attributed to STD and HIV Activities.

6. Table 2. State and Local Contribution for STD Prevention by Budget Category.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in the “Administrative and National Policy Requirements” section of this announcement.

IV.3. Submission Dates and Times

Application Deadline Date: September 15, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application format, content, and deadlines. It supersedes information provided in the application instructions. If your application does not meet the deadline above, it will not be eligible for review, and will be discarded. You will be notified that your application did not meet the submission requirements.

CDC will not notify you upon receipt of your application.

If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Funding restrictions, which must be taken into account while writing your budget, are as follows:

CSPS

1. Grant funds may be used for costs associated with organizing and conducting STD Prevention activities described in the Application Structure and Content section of this announcement. Funds cannot be used to supplant existing state or local funds.

2. When federal funds are used to develop or purchase STD health education materials, they shall contain medically accurate information regarding the effectiveness or lack of effectiveness in preventing the STD the materials are designed to address.

IPP

1. In consultation with the Project Area's Title X family planning grantee(s), at least 50 percent of the total IPP funds must be directed to support screening of women and their partners in Title X family planning programs. The level of support must be documented in a current letter signed by the STD Director and the designated Title X family planning grantee representative. If less than 50 percent (of the funds), the letter must include an explanation of the alternate arrangement.

2. Up to ten percent of the total IPP funds can be used to support gonorrhea screening of women. The collaboration letter from the STD Program Director and Title X designated representative must indicate how the Title X Family Planning partner(s) was involved in these decisions. The grantee must include a detailed budget that delineates the amount of IPP funds allocated for gonorrhea screening activities.

3. Up to 20 percent of the total IPP funds can be used to support male screening. The collaboration letter from the STD Program Director and Title X designated representative must indicate how the Title X Family Planning partner(s) was involved in these decisions. The grantee must include a detailed line item budget that delineates the amount of IPP funds allocated for male screening and treatment activities.

4. IPP funds can be used to support testing, treatment and counseling services provided to the partners of individuals with chlamydia. However, support of Disease Intervention Specialists for these partner services is restricted pending the development of CDC guidance regarding such services.

SE

1. HMAs may use funds for infrastructure development to support syphilis elimination activities.

2. Thirty percent of funds must be awarded to community organizations that serve affected populations. Community organizations are those that are within reasonably circumscribed geographic areas in which there is a sense of interdependence and belonging. These organizations have access to, and history and social credibility with, persons and groups affected by syphilis. They are able to provide culturally competent and relevant interventions. Grantees must report on activities of these funded organizations in future project period progress reports.

If you are requesting indirect costs in your budget, you must include a copy of your indirect cost rate agreement. If your indirect cost rate is a provisional rate, the agreement must be less than 12 months of age.

Awards will not allow reimbursement of pre-award costs.

Guidance for completing your budget can be found on the CDC website, at the following Internet address: http://www.cdc.gov/od/pgo/funding/budgetguide.htm.

IV.6. Other Submission Requirements

Application Submission Address

Submit the original and two hard copies of your application by mail or express delivery service to: Technical Information Management-PA# 05004, CDC Procurement and Grants Office, 2920 Brandywine Road, Atlanta, GA 30341.

Applications may not be submitted electronically at this time.

V. Application Review Information

V.1. Criteria

You are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

All applications will receive a technical acceptability review (TAR). Your application will be evaluated against the criteria listed in “Section IV.2. Content and Form of Application Submission” of this announcement.

The following review criteria apply to the QEI:

1. Plan Description (60 points)

Does the applicant describe a plan to identify and develop an evaluation of one program activity using an appropriate framework, e.g., CDC's Framework for Program Evaluation in Public Health Practice, that is specific to STD prevention and control? Is the plan complete, sound, practical, and able to be generalized to other STD prevention programs.

2. Capacity (40 points)

Does the applicant provide a staffing plan that demonstrates an understanding of the labor requirements for this activity including staff member(s) name with resume or summary of their program evaluation experience and other relevant experience? Does the applicant clearly state a commitment to produce a high quality evaluation product?

The following review criteria apply to GISP:

1. Enrollment strategy (40 points)

Does the applicant describe an enrollment strategy that demonstrates likelihood that goal of 25 isolates per month will be reached?

2. Procedures (40 points)

Does the applicant describe appropriate procedures for isolate collection, handling and shipping? Does the applicant describe, if applicable, procedures for determining beta-lactamase production and antimicrobial susceptibilities of GISP isolates? Does the applicant discuss, if applicable, timeliness of isolate testing and submission of results, storage or duplicate isolates, use of control strains, proficiency testing, and timeliness of CDC and ATSDR Specimen Packaging, Inventory, and Repository (CASPIR) isolate submission.

3. Data plan (20 points)

Does the applicant describe data to be collected and plan for timely submission of data?

4. Budget (not scored)

V.2. Review and Selection Process

Applications will be reviewed for completeness by the Procurement and Grants Office (PGO) staff and for responsiveness by NCHSTP, Division of STD Prevention. Incomplete applications that are non-responsive to the eligibility criteria will not advance through the review process. Applicants will be notified that their application did not meet submission requirements.

An objective review panel will evaluate complete and responsive applications according to the criteria listed in the “V.1. Criteria” section above.

V.3. Anticipated Announcement and Award Date

Anticipated award date is January 1, 2005.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 or Part 92

For more information on the Code of Federal Regulations, see the National Archives and Records Administration at the following Internet address: http://www.access.gpo.gov/nara/cfr/cfr-table-search.html.

The following additional requirements apply to this project:

• AR-1 Human Subjects Requirements.

• AR-2 Requirements for Inclusion of Women and Racial and Ethnic Minorities in Research.

• AR-7 Executive Order 12372.

• AR-8 Public Health System Reporting Requirements.

• AR-10 Smoke-Free Workplace Requirements.

• AR-11 Healthy People 2010.

• AR-12 Lobbying Restrictions.

• AR-14 Accounting System Requirements.

• AR-22 Research Integrity.

• AR-23 States and Faith-Based Organizations.

• AR-24 Health Insurance Portability and Accountability Act Requirements.

Additional information on these requirements can be found on the CDC Web site at the following Internet address: http://www.cdc.gov/od/pgo/funding/ARs.htm.

VI.3. Reporting Requirements

You must provide CDC with an original, plus two copies of the following reports:

1. Interim progress report is due on or before September 15 of each year. The progress report will serve as your non-competing continuation application, and must contain the following elements:

a. Current Budget Period Activities Objectives.

b. Current Budget Period Financial Progress.

c. New Budget Period Program Proposed Activity Objectives.

d. Detailed Line-Item Budget and Justification.

e. Additional Requested Information. The following data tables are required for the first six months of the budget period.

Table 1.—Chlamydia
Provider type | Number of Chlamydia tests (List as many as appropriate): Females | Number of Chlamydia tests (List as many as appropriate): Males | Number of positive tests (List as many as appropriate): Females | Number of positive tests (List as many as appropriate): Males | Test used | Screening criteria
FP
STD
Prenatal

Table 2.—Gonorrhea
Provider type | Number of Gonorrhea tests (List as many as appropriate): Females | Number of Gonorrhea tests (List as many as appropriate): Males | Number of positive tests (List as many as appropriate): Females | Number of positive tests (List as many as appropriate): Males | Test used | Screening criteria
FP
STD
Prenatal

Table 3.—Male Primary and Secondary Syphilis Cases
Number of cases | Cases with partner information* | Information about Index Case: Total number of HIV+ | Information about Index Case: Total number of HIV− | Information about Index Case: Total number of HIV Status Unknown | Information about Index Case: HIV + & MSM | Information about Index Case: HIV− & MSM | Information about Index Case: HIV status unknown & MSM
* Partner information is defined as partner information gathered during an interview and/or information gathered from a provider even if the case is not interviewed.

Table 4.—Female Primary and Secondary Syphilis Cases
Number of cases | Cases with partner information* | Information about Index Case: Total number of HIV + | Information about Index Case: Total number of HIV | Information about Index Case: Total number of HIV status unknown
* Partner information is defined as partner information gathered during an itnerview and/or information gathered from a provider even if the case is not interviewed.

f. Measures of Effectiveness. The following performance measures are required for the first six months of the budget period.

1. Proportion of female admittees to large juvenile detention facilities tested for chlamydia.

2. Proportion of primary and secondary (P and S) syphilis cases interviewed within 7, 14, and 30 calendar days from the date of specimen collection.

3. Number of contacts prophylactically treated or newly diagnosed and treated within 7, 14 and 30 calendar days from day of interview of index case, per case of P and S syphilis.

4. Number of “associates” or “suspects” tested, per case of P and S syphilis.

5. Number of “associates” or “suspects” treated for newly diagnosed syphilis, per case of P and S syphilis.

6. Proportion of “priority” gonorrhea cases interviewed within 7, 14 and 30 days from the date of specimen collection. Priority population(s) is to be locally determined (e.g., pregnant women, women aged 15-19 years, women of child-bearing age, resistant gonorrhea, MSM, etc.)

7. Proportion of reported cases of gonorrhea, chlamydia, P and S syphilis, EL syphilis, and congenital syphilis sent to CDC via NETSS that have complete data for age, race, sex, county, and date of specimen collection.

8. Proportion of reported cases of gonorrhea, chlamydia, P and S syphilis, EL syphilis, and congenital syphilis sent to CDC via NETSS within 30 and 60 days from the date of specimen collection.

9. Among clients of IPP family planning clinics, the proportion of women with positive CT tests that are treated within 14 and 30 days of date of specimen collection.

10. Among clients of IPP family planning clinics, the proportion of women with positive gonorrhea tests that are treated within 14 and 30 days of date of specimen collection.

11. Proportion of providers or partnerships delivering continuing care for >50 HIV+ individuals, who have written protocols for screening those clients for syphilis.

12. Proportion of female admittees entering selected project area adult city and county jails that were tested for syphilis.

2. Financial status report is due March 31 of each year.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Kim Seechuk, Deputy Branch Chief, Program Development and Support Branch, Division of STD Prevention, 1600 Clifton Road, MS E-27, Atlanta, GA 30333, Telephone: 404-639-8339, E-mail: kgs0@cdc.gov.

For financial, grants management or budget assistance, contact: Gladys Gissentanna, Grants Management Specialist, CDC Procurement and Grants Office, 2920 Brandywine Road, Atlanta, GA 30341, Telephone: 770-488-2753, E-mail: GGissentanna@cdc.gov.

VIII. Other Information

Appendices can be found with this announcement on the CDC Web site at http://www.cdc.gov/od/pgo/funding/grantmain.htm Appendix contains:

(1) Description of SMART Objectives

(2) Quality Initiative: Examples of Interventions to Evaluate

(3) Outline for Grant Application

(4) List of 21 adult city and 30 selected county jails

(5) Percentage DA/FA Staff Time Attributed to STD and HIV Activities

(6) State and Local Contribution for STD Prevention by Budget Category

See http://www.nchstp.cdc.gov/std/ for: (1) Division of STD Program Operations Guidelines, (2) National Plan to Eliminate Syphilis from the United States, and (3) Regional Infertility Plan Guidance.

Dated: July 15, 2004.
William P. Nichols,
Acting Director, Procurement and Grants Office, Centers for Disease Control and Prevention.

[FR Doc. 04-16545 Filed 7-20-04; 8:45 am]

BILLING CODE 4163-18-P